DEPARTMENT OF TRANSPORTATION

Federal Highway Administration

[Docket No. FHWA-2012-0023]

Agency Information Collection Activities: Notice of Request for Approval of a New Information Collection

AGENCY: Federal Highway Administration (FHWA), DOT.

ACTION: Notice of request for approval of a new information collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by May 29, 2012.

ADDRESSES: You may submit comments identified by DOT Docket ID Number 2012-0023 by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue SE., Washington, DC 20590.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Karen Scurry, (609) 637-4207 or karen.scurry@dot.gov mailto:ben.gribbon@dot.gov, Office of Administration, Federal Highway Administration, Department of Transportation, 840 Bear Tavern Road, West Trenton, NJ 08628, Monday through Friday, except Federal holidays.

SUPPLEMENTARY INFORMATION: Title: Assessment and Delivery of Safety Funding at the Local Level.

Type of request: New information collection requirement.

Background: The Safe, Accountable, Flexible, Efficient, Transportation Equity Act: A Legacy for Users (SAFETEA-LU), 23 U.S.C. 148, established the Highway Safety Improvement Program (HSIP) as a core Federal-aid Highway Program. The overall purpose of this program is to achieve a significant reduction in traffic fatalities and serious injuries on all public roads through the implementation of infrastructure-related highway safety improvements. Using Federal and State funds to assist local agencies in improving safety on local roads is critical for reducing fatalities and serious injuries. However, State and local agencies face many challenges and barriers when identifying, prioritizing, developing, and implementing safety projects on local roads.

The requested information collection, in the form of an on-line survey tool, will be used to evaluate the extent, practices and processes State Departments of Transportation (DOTs) use to deliver or apply safety funding resources to local agencies for road safety improvement projects. The survey will also help identify challenges and barriers State DOTs and local agencies face when developing and implementing local road safety projects.

Survey respondents will be asked to provide information about training, technical support, and human resources provided to, or on behalf of local agencies, to assist in the identification, analysis, development, evaluation, and implementation of local road safety improvement projects. Respondents will also be asked to identify any challenges or barriers States and local agencies face when attempting to provide funding and other resources for local road safety projects.

Certain survey respondents will also be asked to provide feedback on Federal or State fiscal year expenditures applied to local road safety improvement projects over a three-year period and any methodologies used to identify a specific dollar amount or percentage of funds set aside for local road safety improvement projects.

The information will allow FHWA to assess the extent to which states are providing funds to local agencies for safety projects and to identify human resources and technical assistance states need in order to overcome barriers and challenges to developing and implementing local road safety improvement projects.

The survey will also help FHWA identify noteworthy practices that can be implemented in other States, with the ultimate goal of improving highway safety outcomes across the Nation.

Respondents: State DOTs.

Frequency: One time.

Estimated Average Burden per Response: Approximately 5 hours.

Estimated Total Annual Burden Hours: The total burden for this collection would be approximately 250 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: March 21, 2012.
Juli Huynh,
Chief, Management Programs and Analysis Division.

[FR Doc. 2012-7366 Filed 3-27-12; 8:45 am]

BILLING CODE 4910-22-P